DEPARTMENT OF EDUCATION

The Fund for the Improvement of Postsecondary Education (IPSE) National Board

AGENCY: U.S. Department of Education, The Fund for the Improvement of Postsecondary Education (FIPSE) National Board.

ACTION: Notice of an open meeting.

SUMMARY: This notice sets forth the schedule and proposed agenda of an upcoming open meeting of the National Board (Board) of the Fund for the Improvement of Postsecondary Education. The notice also describes the functions of the Board. Notice of this meeting is required by Section 10(a)(2) of the Federal Advisory Committee Act and is intended to notify members of the public of their opportunity to attend.

DATES: Monday, July 25, 2011.

Time: 9 a.m.-4 p.m. Eastern Standard Time.

ADDRESSES: Eighth Floor Conference Room, 1990 K Street, NW., Washington, DC 20006, Telephone: (202) 502-7500.

FOR FURTHER INFORMATION CONTACT: Erin M. McDermott, U.S. Department of Education, 1990 K Street, NW., Washington, DC 20006-8544; telephone: (202) 502-7607; e-mail: erin.mcdermott@ed.gov.

SUPPLEMENTARY INFORMATION: The National Board of the Fund for the Improvement of Postsecondary Education is established in Title VII, Part B, Section 742 of the Higher Education Act of 1965, as amended (20 U.S.C. 1138a). The Board is authorized to advise the Director of the Fund and the Assistant Secretary for Postsecondary Education on (1) priorities for the improvement of postsecondary education, including recommendations for the improvement of postsecondary education and for the evaluation, dissemination, and adaptation of demonstrated improvements in postsecondary educational practice; and (2) the operation of the Fund, including advice on planning documents, guidelines, and procedures for grant competitions prepared by the Fund.

On Monday, July 25, 2011, from 9:00 a.m. to 4:00 p.m., Eastern Standard Time, the Board will meet in an open session. The proposed agenda for the meeting will include discussion of the Fund's programs and special initiatives. Presentations will be made on behalf of projects administered by the Fund.

Accessible Format: Individuals with disabilities can obtain this document in an accessible format (e.g., Braille, large print, audiotape, or computer diskette) by contacting the person listed under FOR FURTHER INFORMATION CONTACT section of this notice. Individuals who use a telecommunications device for the deaf (TDD) may call the Federal Information Relay Service (FRS), toll-free, at 1-800-877-8339, Monday through Friday, between the hours of 8:00 a.m. and 8:00 p.m., Eastern Standard Time.

Individuals who will need accommodations for a disability in order to attend the meeting (e.g., interpreting services, assistance listening devices, or materials in alternative format) should notify Erin McDermott at (202) 502-7607, no later than July 11, 2011. We will attempt to meet requests for accommodations after this date but cannot guarantee their availability. The meeting site is accessible to individuals with disabilities.

Members of the public are encouraged to submit written comments to the attention of Erin M. McDermott, 1990 K Street, NW., Room 6161, Washington, DC 20006-8544 or by e-mail at erin.mcdermott@ed.gov.

Records are kept of all Board proceedings and are available for public inspection at the Office of the Fund for the Improvement of Postsecondary Education, Sixth Floor, 1990 K Street, NW., Washington, DC 20006-8544, from the hours of 8 a.m. to 4:30 p.m., Eastern Standard Time (EST), from Monday through Friday.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Format (PDF). To use PDF, you must have Adobe Acrobat Reader, which is available free at this site. If you have questions about using PDF, call the U.S. Government Printing Office (GPO), toll-free, at 1-866-512-1800; or, in the Washington, DC area at (202) 512-0000.

You may also access documents of the Department with the search feature at http://www.federalregister.gov. Specifically, through the advanced search feature at this site, you can limit your search to documents published by the Department.

David A. Bergeron,
Deputy Assistant Secretary for Policy, Planning, and Innovation.

[FR Doc. 2011-16741 Filed 7-1-11; 8:45 am]

BILLING CODE 4000-01-P